FEDERAL RESERVE SYSTEM

Agency Information Collection Activities: Proposed Collection; Comment Request

AGENCY: Board of Governors of the Federal Reserve System

SUMMARY: Background.

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-I's and supporting statements and approved collection of information instruments are placed into OMB's public docket files. The Federal Reserve may not conduct or sponsor, and the respondent is not required to respond to, an information collection that has been extended, revised, or implemented on or after October 1, 1995, unless it displays a currently valid OMB control number.

Request for comment on information collection proposals.

The following information collections, which are being handled under this delegated authority, have received initial Board approval and are hereby published for comment. At the end of the comment period, the proposed information collections, along with an analysis of comments and recommendations received, will be submitted to the Board for final approval under OMB delegated authority. Comments are invited on the following:

a. whether the proposed collection of information is necessary for the proper performance of the Federal Reserve's functions; including whether the information has practical utility;

b. the accuracy of the Federal Reserve's estimate of the burden of the proposed information collection, including the validity of the methodology and assumptions used;

c. ways to enhance the quality, utility, and clarity of the information to be collected; and

d. ways to minimize the burden of information collection on respondents, including through the use of automated collection techniques or other forms of information technology.

DATES: Comments must be submitted on or before June 16, 2003.

ADDRESSES: Comments may be mailed to Ms. Jennifer J. Johnson, Secretary, Board of Governors of the Federal Reserve System, 20th Street and Constitution Avenue, N.W., Washington, DC 20551. However, because paper mail in the Washington area and at the Board of Governors is subject to delay, please consider submitting your comments by e-mail to regs.comments@federalreserve.gov, or faxing them to the Office of the Secretary at 202-452-3819 or 202-452-3102. Comments addressed to Ms. Johnson may also be delivered to the Board's mail facility in the West Courtyard between 8:45 a.m. and 5:15 p.m., located on 21st Street between Constitution Avenue and C Street, NW. Members of the public may inspect comments in Room MP-500 between 9:00 a.m. and 5:00 p.m. on weekdays pursuant to 261.12, except as provided in 261.14, of the Board's Rules Regarding Availability of Information, 12 CFR 261.12 and 261.14.

A copy of the comments may also be submitted to the OMB desk officer for the Board: Joseph Lackey, Office of Information and Regulatory Affairs, Office of Management and Budget, New Executive Office Building, Room 10235, Washington, DC 20503.

FOR FURTHER INFORMATION CONTACT: A copy of the proposed form and instructions, the Paperwork Reduction Act Submission (OMB 83-I), supporting statement, and other documents that will be placed into OMB's public docket files once approved may be requested from the agency clearance officer, whose name appears below.

Cindy Ayouch, Federal Reserve Board Clearance Officer (202-452-3829), Division of Research and Statistics, Board of Governors of the Federal Reserve System, Washington, DC 20551. Telecommunications Device for the Deaf (TDD) users may contact (202-263-4869), Board of Governors of the Federal Reserve System, Washington, DC 20551.

SUPPLEMENTARY INFORMATION:

Proposal to approve under OMB delegated authority the extension for three years, with revision, of the following reports:

1. Report title: Report of Transaction Accounts, Other Deposits, and Vault Cash

Agency form number: FR 2900

OMB control number: 7100-0087

Frequency: Weekly, quarterly

Reporters: Depository institutions

Annual reporting hours: 779,506 hours

Estimated average hours per response: 3.50 hours

Number of respondents: 3,888 weekly and 5,135 quarterly

Small businesses are affected.

General description of report: This information collection is mandatory (12 U.S.C. 248(a), 461, 603, and 615) and is given confidential treatment (5 U.S.C. 552(b)(4)).

Abstract: Nonexempt institutions B currently defined as those with reservable liabilities greater than the exemption amount B file the FR 2900 weekly if their total deposits are greater than or equal to the nonexempt deposit cutoff and quarterly if their total deposits are less than the nonexempt deposit cutoff. U.S. branches and agencies of foreign banks and Edge and agreement corporations are required to report the FR 2900 weekly regardless of their deposit size. These mandatory reports are used by the Federal Reserve for administering Regulation D (Reserve Requirements of Depository Institutions) and for constructing, analyzing, and controlling the monetary and reserve aggregates.

Current actions: The Federal Reserve proposes the following revisions: (1) changing the definition of “nonexempt institutions” to be any depository institution with net transaction accounts greater than the exemption amount, effective with the September 2003 panel shift; (2) instituting a new “reduced reporting limit” B any institution with total deposits at or above a $1 billion reduced reporting limit would report the FR 2900 weekly, effective with the September 2003 panel review; (3) reducing the reporting frequency for the two nonpersonal time deposit items on the FR 2900 to one day each year, effective September 2003; (4) raising the nonexempt deposit cutoff to $150.0 million, an upward adjustment from the 2003 indexed level of $112.3 million, effective for the September 2003 panel review; and (5) adding the item “net Eurocurrency liabilities” to the FR 2900, to be reported one day each year beginning June 2004.

2. Report title: Annual Report of Total Deposits and Reservable Liabilities

Agency form number: FR 2910a

OMB control number: 7100-0175

Frequency: Annually

Reporters: Depository institutions

Annual reporting hours: 3,052

Estimated average hours per response: 30 minutes

Number of respondents: 6,103

Small businesses are affected.

General description of report: This information collection is mandatory (12 U.S.C. 248(a) and 461) and is given confidential treatment (5 U.S.C. 552 (b)(4)).

Abstract: Currently, the FR 2910a is filed by (non-FR 2900) institutions whose total deposits are greater than or equal to the exemption amount and by all other institutions whose total deposits cannot be verified as being below the exemption amount. This mandatory report is used by the Federal Reserve for administering Regulation D (Reserve Requirements of Depository Institutions) and for constructing, analyzing, and controlling the monetary and reserve aggregates.

Current actions: The Federal Reserve proposes adding the item “net transaction accounts” to the FR 2910a, effective June 2003; and changing the reporting date for the FR 2910a to June 30th, effective June 2003.

3. Report title: Report of Repurchase Agreements (RPs) on U.S. Government and Federal Agency Securities with Specified Holders

Agency form number: FR 2415

OMB control number: 7100-0074

Frequency: Weekly, quarterly, or annually

Reporters: U.S chartered commercial banks, U.S branches and agencies of foreign banks, thrift institutions, and credit unions

Annual reporting hours: 2,615 hours

Estimated average hours per response: 30 minutes

Number of respondents: 84 weekly, 128 quarterly, and 350 annually

Small businesses are not affected.

General description of report: This information collection is voluntary (12 U.S.C. 248(a)(2) and 3105(b)) and is given confidential treatment (5 U.S.C. 552(b)(4)).

Abstract: This voluntary report collects one data item, repurchase agreements (RPs), in denominations of $100,000 or more, in immediately-available funds, on U.S. government and federal agency securities, transacted with specified holders. Depository institutions file the FR 2415 report either weekly, quarterly or annually depending on the volume of their RPs. In general, the larger the respondent's level of RPs, the more frequent its reporting. The weekly panel reports daily data once each week; the quarterly panel files daily data for the four one-week reporting periods that contain quarter-end dates; the annual panel reports daily data only for the week encompassing June 30 each year. The primary purpose of the data is for construction of the RP component of the M3 monetary aggregate and for analysis of depository institutions' funding practices.

Current actions: The Federal Reserve proposes the following revisions: (1) raising the thresholds for re-screening existing FR 2415 respondents on all three reporting panels; (2) reducing the cutoff for screening U.S. banks that do not file the FR 2415; and (3) adding credit unions to the existing reporting panels.

4. Report title: Monthly Survey of Industrial Electricity Use

Agency form number: FR 2009a,b,c

OMB control number: 7100-0057

Frequency: Monthly

Reporters: FR 2009a/c: Electric utility companies; FR 2009b: Cogenerators

Annual reporting hours: FR 2009a/c: 1,920 hours; FR 2009b: 900 hours

Estimated average hours per response: FR 2009a/c: 1 hour; FR 2009b: 30 minutes

Number of respondents: FR 2009a/c: 160; FR 2009b: 150

Small businesses are affected.

General description of report: This information collection is voluntary (12 U.S.C. 225a, 263, 353 et seq, and 461) and is given confidential treatment (5 U.S.C. 552(b)(4)).

Abstract: The survey collects information on the volume of electric power delivered during the month to classes of industrial customers. There are three versions of the survey: the FR 2009a and FR 2009c collect information from 137 electric utilities, the FR 2009a in Standard Industrial Codes (SIC) codes and the FR 2009c in North American Industry Classification System (NAICS) codes. The FR 2009b collects information from 124 manufacturing and mining facilities that generate electric power for their own use (cogenerators). The electric power data are used in deriving the Federal Reserve's monthly index of industrial production (IP) as well as for calculating the monthly estimates of electric power used by industry. The IP index is widely used by the Federal Reserve, other government agencies, businesses, and academia for economic analysis, policy review, and research.

Current actions: The Federal Reserve proposes to continue using the FR 2009a report form. This report form was approved for discontinuance in 2000 owing to the industrial output index being revised to reflect the new North American Industry Classification System (NAICS) from the Standard Industrial Classification (SIC) codes. However, many respondents continue to prefer reporting in SIC codes. The FR 2009c is in the same format as the FR 2009a but uses NAICS instead of SIC codes. The Federal Reserve also propose to reduce the authorized panel size to 160 utilities and 150 cogenerators to more accurately reflect the target population.

Proposal to approve under OMB delegated authority the extension for three years, without revision, of the following reports:

1. Report title: Allocation of Low Reserve Tranche and Reservable Liabilities Exemption

Agency form number: FR 2930/2930a

OMB control number: 7100-0088

Frequency: Annually and on occasion

Reporters: Depository institutions

Annual reporting hours: 47 hours

Estimated average hours per response: 15 minutes

Number of respondents: 186

Small businesses are affected.

General description of report: This information collection is mandatory: FR 2930 (12 U.S.C. 248(a), 461, 603, and 615) and FR 2930a: (12 U.S.C. 248(a) and 461) and is given confidential treatment (5 U.S.C. 552(b)(4)).

Abstract: The FR 2930 and FR 2930a provide information on the allocation of the low reserve tranche and reservable liabilities exemption for depository institutions having offices (or groups of offices) that file separate FR 2900 deposit reports. The data collected on these reports are needed for the calculation of required reserves.

2. Report title: Report of Foreign (Non-U.S.) Currency Deposits

Agency form number: FR 2915

OMB control number: 7100-0237

Frequency: Quarterly

Reporters: Depository institutions

Annual reporting hours: 306 hours

Estimated average hours per response: 30 minutes

Number of respondents: 153

Small businesses are affected.

General description of report: This information collection is mandatory (12 U.S.C. 248(a)(2) and 347(d)) and is given confidential treatment (5 U.S.C. 552(b)(4)).

Abstract: The FR 2915 collects weekly averages of the amounts outstanding for foreign (non-U.S.) currency deposits held at U.S. offices of depository institutions, converted to U.S. dollars and included in the FR 2900. Foreign currency deposits are subject to reserve requirements and, therefore, are included in the FR 2900. However, because foreign currency deposits are not included in the monetary aggregates, the FR 2915 data are used to remove foreign currency deposits from FR 2900 data in calculating the monetary aggregates. FR 2915 data also are used to monitor the volume of foreign currency deposits.

Proposal to approve under OMB delegated authority the discontinuation of the following report:

1. Report title: Report of Certain Eurocurrency Transactions

Agency form number: FR 2950/2951

OMB control number: 7100-0087

Frequency: Weekly, quarterly

Reporters: Depository institutions

Annual reporting hours: 20,248 hours

Estimated average hours per response: 1 hour

Number of respondents: 389 weekly and 5 quarterly

Small businesses are affected.

General description of report: This information collection is mandatory [FR 2950: (12 U.S.C. 248(a), 461, 603, and 615)] and [FR 2951: (12 U.S.C. 248(a), 461, and 347(d))] and is given confidential treatment (5 U.S.C. 552(b)(4)).

Abstract: The FR 2950/2951 collects information on Eurocurrency liabilities from depository institutions that obtain funds from foreign (non-U.S.) sources or that have foreign branches. This report is filed with the same frequency as the FR 2900. These mandatory reports are used by the Federal Reserve for administering Regulation D (Reserve Requirements of Depository Institutions) and for constructing, analyzing, and controlling the monetary and reserve aggregates.

Current actions: The Federal Reserve proposes discontinuing the FR 2950/2951 in May 2004, contingent upon some report items being added to the bank credit family of reports. (The Weekly Report of Assets and Liabilities for Large Banks: FR 2416; OMB No. 7100-0075; the Weekly Report of Selected Assets: FR 2644; OMB No. 7100-0075; and the Weekly Report of Assets and Liabilities for Large U.S Branches and Agencies of Foreign Banks: FR 2069; OMB No. 7100-0030)

Board of Governors of the Federal Reserve System, April 10, 2003.

Jennifer J. Johnson,
Secretary of the Board.

[FR Doc. 03-9262 Filed 4-15-03; 8:45 am]

BILLING CODE 6210-01-S